SECURITIES AND EXCHANGE COMMISSION

[SEC File No. 270-663, OMB Control No. 3235-0724]

Proposed Collection; Comment Request

Upon Written Request Copies Available From: U.S. Securities and Exchange Commission, Office of FOIA Services, 100 F Street NE, Washington, DC 20549-2736

Extension:

Supplier Diversity Business Management System

Notice is hereby given that, pursuant to the Paperwork Reduction Act of 1995 (44 U.S.C. 3501 et seq.), the Securities and Exchange Commission (“Commission”) is soliciting comments on the existing collection of information summarized below. The Commission plans to submit this existing collection of information to the Office of Management and Budget (“OMB”) for approval.

The Commission is required under Section 342 of the Dodd Frank Wall Street and Reform Act to develop standards and processes for ensuring the fair inclusion of minority-owned and women-owned businesses in all of the Commission's business activities. To help implement this requirement, the Office of Minority and Women Inclusion (OMWI) developed and maintains an electronic Supplier Diversity Business Management System (SDBMS) to collect up-to-date business information and capabilities statements from diverse suppliers interested in doing business with the Commission. This information allows the Commission to update and more effectively manage its current internal repository. It also allows the Commission to measure the effectiveness of its technical assistance and outreach efforts, and target areas where additional program efforts are necessary.

The Commission invites comment on SDBMS. Information is collected in SDBMS via web-based, e-filed, dynamic form-based technology. The company point of contact completes a profile consisting of basic contact data and information on the capabilities of the business. The profile includes a series of questions, some of which are based on the data that the individual enters. Drop-down lists are included where appropriate to increase ease of use.

The information collection is voluntary. There are no costs associated with this collection.

The public interface to SDBMS is available via a web-link provided by the agency.

Estimated number of annual responses = 300

Estimated annual reporting burden = 150 hours (30 minutes per submission)

Other than a temporary dip in the number of respondents due to the COVID-19 pandemic, the estimated number of respondents overall remains the same at 300 per year, based on the actual response rate prior to the pandemic. As such, the total burden estimate also remains the same at 150 hours.

Written comments are invited on: (a) Whether this collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology. Consideration will be given to comments and suggestions submitted in writing within 60 days of this publication. Please direct your written comments to David Bottom, Director/Chief Information Officer, Securities and Exchange Commission, c/o Cynthia Roscoe, 100 F Street NE, Washington DC, 20549; or send an email to: PRA_Mailbox@sec.gov.

Dated: May 5, 2021.
J. Matthew DeLesDernier,
Assistant Secretary.

[FR Doc. 2021-09900 Filed 5-10-21; 8:45 am]

BILLING CODE 8011-01-P